DEPARTMENT OF HEALTH AND HUMAN SERVICES

National Institutes of Health

Genes and Environment Initiative (GEI)—Exposure Biology Program; GEI—Exposure Biology RFA Application Information Meeting

AGENCY: National Institute of Environmental Health Sciences (NIEHS), National Institutes of Health (NIH), DHHS.

ACTION: Notice.

SUMMARY: An Application Information Meeting, hosted by the National Institute of Environmental Health Sciences (NIEHS), the National Cancer Institute (NCI), the National Heart, Lung, and Blood Institute (NHLBI), and the National Institute on Drug Abuse (NIDA), will be held on October 20, 2006, on the NIEHS campus in Research Triangle Park, North Carolina. The meeting will include an overview of the Exposure Biology Program, presentations on the five funding opportunities, an overview of the cooperative agreement mechanism and Grants Management and Review issues, and a question and answer session addressing RFA-related questions.

DATES: October 20, 2006.

ADDRESSES: The GEI-Exposure Biology Program RFA Application Information meeting will be held at the National Institute of Environmental Health Sciences, 111 TW Alexander Drive, Research Triangle Park, North Carolina [Rall Building (Building 101), Rodbell B]. Information on the meeting will be posted on the GEI-Exposure Biology Web site at http://www.gei.nih.gov/exposurebiology/index.asp.

FOR FURTHER INFORMATION CONTACT: Anne Thompson, NIEHS, P.O. Box 12233, MD B2-01, Research Triangle Park, NC 27709; telephone: 919-316-4517, or e-mail: thomps13@niehs.nih.gov.

SUPPLEMENTARY INFORMATION:

Preliminary Agenda

GEI-Exposure Biology RFA Application Information Meeting, October 20, 2006, National Institute of Environmental Health Sciences, Rall Building (Bldg. 101), Rodbell B, 111 TW Alexander Drive, Research Triangle Park, NC 27709.

1-1:20 p.m. Exposure Biology Program Overview—Brenda Weis (NIEHS).

1:20-1:50 p.m. Biological Response Indicators of Environmental Stress RFAs (U01 and U54)—Sally Tinkle (NIEHS).

1:50-2:10 p.m. Environmental Sensors for Personal Exposure Assessment RFA (U01)—David Balshaw (NIEHS).

2:10-2:30 p.m. Improved Measures of Diet and Physical Activity RFA (U01)—Amy Subar/Cay Loria (NCI/NHLBI).

2:30-2:50 p.m. Field-Deployable Tools for Quantifying Exposures to Psychosocial Stress and to Addictive Substances for Studies of Health and Disease RFA (U01)—Kay Wanke/Kevin Conway (NIDA).

2:50-3:10 p.m. Overview of the “U” Mechanism and the Review and Grants Management Process—Gwen Collman (NIEHS).

3:10-3:25 p.m. General Open Discussion and Questions—Everyone.

3:25-3:35 p.m. Break to One-on-One Sessions.

3:35-4 p.m. One-on-One Session—General Q&A.

4-5:30 p.m. One-on-One Session—Individual Q&A.

Attendance, Registration, and Remote Access

The meeting is being held on October 20, 2006, from 1-5:30 p.m. Individuals who plan on attending either in person or by videocast should register on the GEI-Exposure Biology Web site at http://fmp-8.cit.nih.gov/gei/register.html. A map of the NIEHS campus, including visitor parking, is available at http://www.niehs.nih.gov/external/contact.htm. Please note that a photo ID is required to access the NIEHS campus. Individuals with disabilities, who need Sign Language Interpreters and/or reasonable accommodation to participate in this event, should contact 919-541-2475 voice, 919-541-4644 TTY, through the Federal TTY Relay System at 800-877-8339, or by e-mail: niehsoeeo@niehs.nih.gov. Requests should be made at least 5 days in advance of the event.

Availability of Meeting Materials

Meeting details will be posted on the GEI-Exposure Biology Web site at http://www.gei.nih.gov/exposurebiology/meetings/appinfo06/. Following the meeting, a recorded videocast of the meeting will be made available on the Web site.

Background Information on the Exposure Biology Program

The Genes and Environment Initiative (GEI) is a four-year, NIH-wide program, which aims to accelerate understanding of genetic and environmental contributions to health and disease. The GEI is comprised of two components—the Genetics Program being led by NHGRI and the Exposure Biology Program being led by NIEHS. The Exposure Biology Program will focus on the development of innovative technologies to measure environmental exposures, diet, physical activity, psychosocial stress, and addictive substances that contribute to the development of disease. The program will support: (1) Development of environmental sensors for measurement of chemicals, dietary intake, physical activity, and psychosocial stressors and addictive substances; (2) development of markers of biological response via common pathogenic mechanisms such as oxidative stress, epigenetic modifications, and DNA damage; (3) integration of biological responses with the development of biosensors; and (4) application of novel assays and biomarkers to GWA studies of gene-environment interaction. This will be accomplished through the use of five cooperative agreements (RFAs) led by three NIH Institutes (NIEHS, NIDA, and NCI/NHLBI). Further information on the GEI-Exposure Biology Program can be found on the GEI-Exposure Biology Web site at: http://www.gei.nih.gov/exposurebiology/index.asp.

Dated: October 4, 2006.
David A. Schwartz,
Director, National Institute of Environmental Health Sciences, National Institutes of Health.

[FR Doc. E6-16858 Filed 10-11-06; 8:45 am]

BILLING CODE 4140-01-P